DEPARTMENT OF HOMELAND SECURITY

Coast Guard

[USCG-2006-24860]

MARPOL—List of Ports and Terminals Holding Certificates of Adequacy for Reception Facilities

AGENCY: Coast Guard, DHS.

ACTION: Notice.

SUMMARY: The Coast Guard announces the electronic publication of lists of all U.S. ports and terminals holding valid Certificates of Adequacy (COAs). COAs are issued as evidence that a U.S. terminal or port meets the requirements of Annexes I, II, and V of the 1978 Protocol to the International Convention for the Prevention of Pollution from Ships (MARPOL 73/78). The Coast Guard expects that greater knowledge of these facilities will reduce discharge of oil, noxious liquid substances, and garbage into the marine environment.

DATES: This notice is effective on September 7, 2006. The lists at the Web site listed below include all COAs issued and effective as of September 7, 2006.

FOR FURTHER INFORMATION CONTACT: If you have questions regarding this notice, contact Lieutenant Commander Josh McTaggart, U.S. Coast Guard, telephone 202-267-0514 or e-mail JMcTaggart@comdt.uscg.mil.

SUPPLEMENTARY INFORMATION: Publication of Certificate of Adequacy (COA) lists is authorized by 33 U.S.C. 1905(d), and is intended to aid owners, operators, and agents of ships to identify ports and terminals that have been certified by the Coast Guard as having facilities adequate for accepting residues and mixtures containing oil or noxious liquid substances (NLSs), or for accepting garbage from seagoing ships. The list of ports and terminals holding COAs is available on the Internet at http://cgmix.uscg.mil/default.aspx, by clicking on the Web site link entitled “MARPOL Certificates of Adequacy.” Definitions of the terms used in the Web site appear in 33 CFR 158.120.

The Web site contains a list of ports and terminals possessing valid COAs issued under 33 CFR part 158, Subpart B (Criteria for Reception Facilities: Oily Mixtures). The list provides the names, locations, telephone numbers, and quantities of oily waste that these facilities can accept.

The Web site also contains a list of ports and terminals holding COAs issued under 33 CFR part 158, subpart C (Criteria for Certifying That a Port's or Terminal's Facilities Are Adequate for Receiving NLS Residue). The list provides the names, locations, telephone numbers, and types of various NLS waste that these facilities can accept.

Finally, the Web site contains a list of ports and terminals holding valid COAs issued under 33 CFR part 158, subpart D (Criteria for Adequacy of Reception Facilities: Garbage). The list provides the names, locations, and telephone numbers of these ports and terminals.

Dated: August 14, 2006.
J.G. Lantz,
Director of National and International Standards, Assistant Commandant for Prevention.

[FR Doc. E6-14837 Filed 9-6-06; 8:45 am]

BILLING CODE 4910-15-P